Proclamation 9341 of October 2, 2015

Child Health Day, 2015

By the President of the United States of America

A Proclamation

As a Nation, we have a commitment to ensuring our daughters and sons live better lives than we did. They deserve every chance to reach for the brightest futures they can imagine, and with a solid foundation and a clean environment, they can grow up strong, healthy, and prepared to write the next great chapters in the American story. On Child Health Day, we recommit to helping our children make healthy life choices and to providing them with the resources to lead happy and productive lives.

My Administration remains wholly committed to investing in the safety and well-being of our Nation's kids. First Lady Michelle Obama's Let's Move! initiative is bringing together community-based, faith-based, and private sector organizations, along with government at all levels, to provide quality, nutritious food to students, empower parents to make healthy choices, and encourage our youth to become more physically active. We are working at every level to combat bullying so students across our country can live and learn free from fear or intimidation. Under the Affordable Care Act, young people can now stay on their parents' health plans until age 26—a provision that has already helped millions of young Americans. And the law prohibits insurance companies from denying coverage to individuals with pre-existing conditions, which has already brought greater peace of mind to the parents of up to 17 million children.

Keeping our children healthy takes more than promoting good lifestyles today—it also rests on leaving them with a stable world to live in tomorrow. That is why my Administration is taking on the critical work of safeguarding our planet from the devastating effects of a changing climate by forging an America with cleaner air, cleaner water, and cleaner energy. We have taken ambitious steps to limit our Nation's carbon emissions, wean ourselves off of foreign energy sources, and preserve our planet for generations to come. With the potential for greater incidence of asthma attacks and infectious diseases that can impact growth and learning during critical formative years, we owe it to all who come after us to confront this imminent threat. We are also continuing to encourage Federal agencies to collaborate toward achieving these goals by identifying priority risks to the well-being of our young people and developing strategies to combat them.

Our most profound obligation is to our Nation's most vulnerable citizens: our children. As we mark Child Health Day, let us reaffirm our commitment to that responsibility by supporting and modeling healthy, active lifestyles, by equipping our youth with the tools and resources they need to seize every opportunity, and by working to leave behind a sustainable planet so our children—and theirs—can know a future worthy of their limitless potential.

The Congress, by a joint resolution approved May 18, 1928, as amended (36 U.S.C. 105), has called for the designation of the first Monday in October as Child Health Day and has requested that the President issue a proclamation in observance of this day.

NOW, THEREFORE, I, BARACK OBAMA, President of the United States of America, do hereby proclaim Monday, October 5, 2015, as Child Health Day. I call upon families, educators, health professionals, faith-based and community organizations, and all levels of government to help ensure America's children are healthy.

IN WITNESS WHEREOF, I have hereunto set my hand this second day of October, in the year of our Lord two thousand fifteen, and of the Independence of the United States of America the two hundred and fortieth.

[FR Doc. 2015-25739

Filed 10-6-15; 11:15 am]

Billing code 3295-F6-P